DEPARTMENT OF ENERGY

Federal Energy Regulatory Commission

[Docket No. RP04-91-000]

Questar Pipeline Company; Notice of Cancellation of Technical Conference

May 4, 2004.

Take notice that the technical conference scheduled for Thursday, May 6, 2004, at 10 a.m. (EST) is hereby cancelled.

Magalie R. Salas,
Secretary.

[FR Doc. E4-1107 Filed 5-12-04; 8:45 am]

BILLING CODE 6717-01-P